DEPARTMENT OF COMMERCE

National Oceanic and Atmospheric Administration

RIN 0648-XF857

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, December 11, 2017 through Thursday, December 14, 2017. For agenda details, see SUPPLEMENTARY INFORMATION.

ADDRESSES: The meeting will be held at: The Westin Annapolis, 100 Westgate Circle, Annapolis, MD 21401, telephone: (410) 972-4300.

Council address: Mid-Atlantic Fishery Management Council, 800 N. State St., Suite 201, Dover, DE 19901; telephone: (302) 674-2331.

FOR FURTHER INFORMATION CONTACT: Christopher M. Moore, Ph.D., Executive Director, Mid-Atlantic Fishery Management Council; telephone: (302) 526-5255. The Council's Web site, www.mafmc.org also has details on the meeting location, proposed agenda, webinar listen-in access, and briefing materials.

SUPPLEMENTARY INFORMATION: The following items are on the agenda, though agenda items may be addressed out of order (changes will be noted on the Council's Web site when possible.)

Monday, December 11, 2017

Ecosystem Approach to Fisheries Management Risk Assessment

Review and approve EAFM based assessment

Risk Policy Framework—Meeting 2

Review and approve recommended modifications to Council's Risk Policy

Magnuson-Stevens Act Reauthorization

Review proposed MSA reauthorization legislation and CCC Working Paper

Tilefish Survey Project Report

Update of the fisheries-independent pilot survey for tilefish

Tuesday, December 12, 2017

Executive Committee—CLOSED SESSION

Ricks E Savage Award

Squid Buffer Zone Framework—Meeting 1

Discuss framework goals and review and approve preliminary alternatives

Chub Mackerel Amendment

Review scoping comments and discuss next steps

Law Enforcement Reports

Reports will be received from the NOAA Office of Law Enforcement and the U.S. Coast Guard

Scup Recreational Specifications

Review Monitoring Committee and Advisory Panel recommendations and adopt recommendations for 2018 Federal waters management measures

Summer Flounder Recreational Specifications

Review Monitoring Committee and Advisory Panel recommendations and recommend Conservation Equivalency or coastwide management and associated measures for 2018

Summer Flounder Amendment

Review and approve November 2017 Demersal Committee recommendations for further staff analysis

Wednesday, December 13, 2017

Black Sea Bass Recreational Specifications

Review Monitoring Committee and Advisory Panel recommendations and adopt recommendations for 2018 Federal waters management measures. Review Wave 1 fishery implementation. Board Addendum XXX

Black Sea Bass Wave 1 Letter of Authorization Framework

Review background and provide guidance for development of draft alternatives

Black Sea Bass Amendment

Review initiation of black sea bass amendment (December 2015 motion)

Bluefish Amendment

Initiate Bluefish Amendment and discuss next steps

Bureau of Ocean Energy Management Presentation

Updates of Atlantic Offshore Renewable Projects and Atlantic Renewable Energy Studies

Thursday, December 14, 2017

2018 Implementation Plan

Review and approve 2018 Implementation Plan

Business Session

Committee Reports; Executive Director's Report (Golden Tilefish IFQ review and NEFMC Framework 57 update); Science Report; Organization Reports; Liaison Reports

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: November 21, 2017.
Jeffrey N. Lonergan,
Acting Deputy Director, Office of Sustainable Fisheries, National Marine Fisheries Service.

[FR Doc. 2017-25640 Filed 11-24-17; 8:45 am]

BILLING CODE 3510-22-P